DEPARTMENT OF COMMERCE

Census Bureau

Census Scientific Advisory Committee

AGENCY: Bureau of the Census, Department of Commerce.

ACTION: Notice of advisory committee charter renewal.

SUMMARY: The Bureau of the Census (Census Bureau) is giving notice that the Secretary of the Department of Commerce has determined that the renewal of an advisory committee of technical advisors is necessary and in the public interest. Accordingly, the Census Bureau has chartered the Census Scientific Advisory Committee (CSAC). The renewed charter can be found on the Census Bureau's Advisory Committee Web site at the following link: https://www.census.gov/cac/.

FOR FURTHER INFORMATION CONTACT: Tara Dunlop, Chief, Advisory Committee Branch, U.S. Census Bureau, Room 8H177, Washington, DC 20233, telephone 301-763-5222, Tara.T.Dunlop@Census.gov.

SUPPLEMENTARY INFORMATION: The CSAC will advise the Census Bureau's Director on the full range of Census Bureau programs and activities. The CSAC will provide scientific and technical expertise from the following disciplines: demography, economics, geography, psychology, statistics, survey methodology, social and behavioral sciences, Information Technology and computing, marketing and other fields of expertise, as appropriate, to address Census Bureau program needs and objectives.

The CSAC will function solely as an advisory body and in compliance with provisions of the Federal Advisory Committee Act. Pursuant to subsection 9(c) of the Federal Advisory Committee Act, 5 U.S.C., App., as amended, copies of this charter were furnished to the Library of Congress and to the following Committees of Congress:

• Senate Committee on Commerce, Science, and Transportation

• Senate Committee on Homeland Security and Governmental Affairs

• Senate Committee on Finance

• Senate Committee on Appropriations

• House Committee on Appropriations

• House Committee on Oversight and Government Reform

Dated: April 4, 2016.
John H. Thompson,
Director, Bureau of the Census.

[FR Doc. 2016-08156 Filed 4-7-16; 8:45 am]

BILLING CODE 3510-07-P